DEPARTMENT OF ENERGY

Federal Energy Regulatory Commission

Combined Notice of Filings

Take notice that the Commission has received the following Natural Gas Pipeline Rate and Refund Report filings:

Filings Instituting Proceedings

Docket Numbers: RP12-669-000.

Applicants: Transcontinental Gas Pipe Line Company.

Description: Map Update Transco April 2012 to be effective 5/31/2012.

Filed Date: 4/30/12.

Accession Number: 20120430-5106.

Comments Due: 5 p.m. ET 5/14/12.

Docket Numbers: RP12-670-000.

Applicants: Northern Natural Gas Company.

Description: 20120430 OPPD Negotiated Rate to be effective 5/1/2012.

Filed Date: 4/30/12.

Accession Number: 20120430-5110.

Comments Due: 5 p.m. ET 5/14/12.

Docket Numbers: RP12-671-000.

Applicants: ANR Pipeline Company.

Description: TVA Agreements to be effective 6/1/2012.

Filed Date: 4/30/12.

Accession Number: 20120430-5111.

Comments Due: 5 p.m. ET 5/14/12.

Docket Numbers: RP12-672-000.

Applicants: Panhandle Eastern Pipe Line Company, LP.

Description: Map Filing on 4-30-12 to be effective 6/1/2012.

Filed Date: 4/30/12.

Accession Number: 20120430-5112.

Comments Due: 5 p.m. ET 5/14/12.

Docket Numbers: RP12-673-000.

Applicants: Trunkline Gas Company, LLC.

Description: Map Filing on 4-30-12 to be effective 6/1/2012.

Filed Date: 4/30/12.

Accession Number: 20120430-5114.

Comments Due: 5 p.m. ET 5/14/12.

Docket Numbers: RP12-674-000.

Applicants: Sea Robin Pipeline Company, LLC.

Description: Map Filing on 4-30-12 to be effective 6/1/2012.

Filed Date: 4/30/12.

Accession Number: 20120430-5116.

Comments Due: 5 p.m. ET 5/14/12.

Docket Numbers: RP12-675-000.

Applicants: Florida Gas Transmission Company, LLC.

Description: Map Filing on 4-30-12 to be effective 6/1/2012.

Filed Date: 4/30/12.

Accession Number: 20120430-5120.

Comments Due: 5 p.m. ET 5/14/12.

Docket Numbers: RP12-676-000.

Applicants: Transcontinental Gas Pipe Line Company, LLC.

Description: RP-06-569-007 and RP07-376-004 Compliance (WSS Base Gas) to be effective 6/1/2012.

Filed Date: 4/30/12.

Accession Number: 20120430-5124.

Comments Due: 5 p.m. ET 5/14/12.

Docket Numbers: RP12-677-000.

Applicants: Sabine Pipe Line LLC.

Description: Sabine Tariff Filing to be effective 6/1/2012.

Filed Date: 4/30/12.

Accession Number: 20120430-5172.

Comments Due: 5 p.m. ET 5/14/12.

Docket Numbers: RP12-678-000.

Applicants: Sabine Pipe Line LLC.

Description: Sabine Tariff Filing to be effective 6/1/2012.

Filed Date: 4/30/12.

Accession Number: 20120430-5190.

Comments Due: 5 p.m. ET 5/14/12.

Docket Numbers: RP12-679-000.

Applicants: Sabine Pipe Line LLC.

Description: Sabine Revises its Forms of Service Agreements to be effective 6/1/2012.

Filed Date: 4/30/12.

Accession Number: 20120430-5202.

Comments Due: 5 p.m. ET 5/14/12.

Docket Numbers: RP12-680-000.

Applicants: Southeast Supply Header, LLC.

Description: SESH 2012 Map Filing to be effective 6/1/2012.

Filed Date: 4/30/12.

Accession Number: 20120430-5249.

Comments Due: 5 p.m. ET 5/14/12.

Docket Numbers: RP12-681-000.

Applicants: Gulf South Pipeline Company, LP.

Description: Gulf South Pipeline Company, LP submits tariff filing per 154.204: HK 37731 to Sequent 39880 Capacity Release Negotiated Rate Agreement to be effective 5/1/2012.

Filed Date: 4/30/12.

Accession Number: 20120430-5253.

Comments Due: 5 p.m. ET 5/14/12.

Docket Numbers: RP12-682-000.

Applicants: Gulf South Pipeline Company, LP.

Description: Gulf South Pipeline Company, LP submits tariff filing per 154.204: HK 37731 to Spark 39886 Capacity Release Negotiated Rate Agreement filing to be effective 5/1/2012.

Filed Date: 4/30/12.

Accession Number: 20120430-5258.

Comments Due: 5 p.m. ET 5/14/12.

Docket Numbers: RP12-683-000.

Applicants: Gulf South Pipeline Company, LP.

Description: Gulf South Pipeline Company, LP submits tariff filing per 154.204: HK 37731 to Texla 39887 Capacity Release Negotiated Rate Agreement filing to be effective 5/1/2012.

Filed Date: 4/30/12.

Accession Number: 20120430-5262.

Comments Due: 5 p.m. ET 5/14/12.

Docket Numbers: RP12-684-000.

Applicants: Iroquois Gas Transmission System, L.P.

Description: 04/30/12 Negotiated Rates—Occidental Energy Marketing, Inc. to be effective 5/1/2012.

Filed Date: 4/30/12.

Accession Number: 20120430-5304.

Comments Due: 5 p.m. ET 5/14/12.

Docket Numbers: RP12-685-000.

Applicants: Horizon Pipeline Company, LLC.

Description: Horizon Pipeline Company, LLC submits tariff filing per 154.204: Nicor Gas Negotiated Rate Filing to be effective 5/14/2012.

Filed Date: 4/30/12.

Accession Number: 20120430-5396.

Comments Due: 5 p.m. ET 5/14/12.

Docket Numbers: RP12-686-000.

Applicants: Williston Basin Interstate Pipeline Company.

Description: Williston Basin Interstate Pipeline Company submits tariff filing per 154.204: Unauthorized Farm Tap to be effective 5/31/2012.

Filed Date: 4/30/12.

Accession Number: 20120430-5423.

Comments Due: 5 p.m. ET 5/14/12.

Docket Numbers: RP12-687-000.

Applicants: Alliance Pipeline L.P.

Description: Alliance Pipeline L.P. submits tariff filing per 154.204: Capacity Auction May 2012 to be effective 5/1/2012.

Filed Date: 4/30/12.

Accession Number: 20120430-5425.

Comments Due: 5 p.m. ET 5/14/12.

Docket Numbers: RP12-688-000.

Applicants: Williston Basin Interstate Pipeline Company.

Description: Williston Basin Interstate Pipeline Company submits tariff filing per 154.204: 2012 System Maps to be effective 4/30/2012.

Filed Date: 4/30/12.

Accession Number: 20120430-5427.

Comments Due: 5 p.m. ET 5/14/12.

Docket Numbers: RP12-689-000.

Applicants: Petal Gas Storage, LLC.

Description: Filing to Correct Tariff Record to be effective 5/1/2012.

Filed Date: 4/30/12.

Accession Number: 20120430-5429.

Comments Due: 5 p.m. ET 5/14/12.

Docket Numbers: RP12-690-000.

Applicants: Natural Gas Pipeline Company of America LLC.

Description: Nicor Negotiated Rate Filing to be effective 5/14/2012.

Filed Date: 4/30/12.

Accession Number: 20120430-5431.

Comments Due: 5 p.m. ET 5/14/12.

Docket Numbers: RP12-691-000.

Applicants: Millennium Pipeline Company, LLC.

Description: Negotiated Rate Service Agreement Filing—Contract No. 131726, etc to be effective 5/1/2012.

Filed Date: 4/30/12.

Accession Number: 20120430-5433.

Comments Due: 5 p.m. ET 5/14/12.

Docket Numbers: RP12-692-000.

Applicants: Questar Overthrust Pipeline Company.

Description: WIC Non-conforming sub-contracts to be effective 5/1/2012.

Filed Date: 4/30/12.

Accession Number: 20120430-5437.

Comments Due: 5 p.m. ET 5/14/12.

Docket Numbers: RP12-693-000.

Applicants: Big Sandy Pipeline, LLC.

Description: EQT Energy 1009019 Negotiated Rate Agreement to be effective.

Filed Date: 4/30/12.

Accession Number: 20120430-5440.

Comments Due: 5 p.m. ET 5/14/12.

Docket Numbers: RP12-694-000.

Applicants: Midcontinent Express Pipeline LLC.

Description: Fuel Tracker to be effective 6/1/2012.

Filed Date: 4/30/12.

Accession Number: 20120430-5444.

Comments Due: 5 p.m. ET 5/14/12.

Docket Numbers: RP12-695-000.

Applicants: Fayetteville Express Pipeline LLC.

Description: FEP Semi-Annual Fuel Filing 04_2012 to be effective 6/1/2012.

Filed Date: 4/30/12.

Accession Number: 20120430-5446.

Comments Due: 5 p.m. ET 5/14/12.

Docket Numbers: RP12-696-000.

Applicants: Questar Pipeline Company.

Description: System Map Version 1.0.0 to be effective 5/30/2012.

Filed Date: 4/30/12.

Accession Number: 20120430-5449.

Comments Due: 5 p.m. ET 5/14/12.

Docket Numbers: RP12-697-000.

Applicants: Questar Southern Trails Pipeline Company.

Description: System Map Version 1.0.0 to be effective 5/30/2012.

Filed Date: 4/30/12.

Accession Number: 20120430-5462.

Comments Due: 5 p.m. ET 5/14/12.

Docket Numbers: RP12-698-000.

Applicants: Iroquois Gas Transmission System, L.P.

Description: 04/30/12 Negotiated Rates—Iberdrola Energy Services, LLC 7305-02 to be effective 5/1/2012.

Filed Date: 4/30/12.

Accession Number: 20120430-5470.

Comments Due: 5 p.m. ET 5/14/12.

Docket Numbers: RP12-699-000.

Applicants: Southern Natural Gas Company, LLC.

Description: Map Filing—2012 to be effective 6/1/2012.

Filed Date: 5/1/12.

Accession Number: 20120501-5002.

Comments Due: 5 p.m. ET 5/14/12.

Docket Numbers: RP12-700-000.

Applicants: Discovery Gas Transmission LLC.

Description: Hilcorp Negotiated Rate Agreement to be effective 5/1/2012.

Filed Date: 5/1/12.

Accession Number: 20120501-5011.

Comments Due: 5 p.m. ET 5/14/12.

Docket Numbers: RP12-701-000.

Applicants: Gulfstream Natural Gas System, LLC.

Description: 2012 GNGS TUP/SBA Filing to be effective 6/1/2012.

Filed Date: 5/1/12.

Accession Number: 20120501-5090.

Comments Due: 5 p.m. ET 5/14/12.

Docket Numbers: RP12-702-000.

Applicants: Southeast Supply Header, LLC.

Description: 2012 TUP/SBA Annual Filing to be effective N/A .

Filed Date: 5/1/12.

Accession Number: 20120501-5091.

Comments Due: 5 p.m. ET 5/14/12.

Docket Numbers: RP12-703-000.

Applicants: Dauphin Island Gathering Partners.

Description: Negotiated Rates 2012-05-01 to be effective 5/1/2012.

Filed Date: 5/1/12.

Accession Number: 20120501-5128.

Comments Due: 5 p.m. ET 5/14/12.

Docket Numbers: RP12-704-000.

Applicants: Gulf South Pipeline Company, LP.

Description: QEP 37657-17 Amendment to Negotiated Rate Agreement to be effective 5/2/2012.

Filed Date: 5/1/12.

Accession Number: 20120501-5129.

Comments Due: 5 p.m. ET 5/14/12.

Docket Numbers: RP12-705-000.

Applicants: Northern Natural Gas Company.

Description: 20120501 J. Aron Non-conforming/Negotiated Rate to be effective 6/1/2012.

Filed Date: 5/1/12.

Accession Number: 20120501-5130.

Comments Due: 5 p.m. ET 5/14/12.

Docket Numbers: RP12-706-000.

Applicants: Gulf Crossing Pipeline Company LLC.

Description: Gulf Crossing Pipeline Company LLC submits tariff filing per 154.204: BP K37-9 Amendment to Negotiated Rate Agreement to be effective 5/1/2012.

Filed Date: 05/01/2012.

Accession Number: 20120501-5137.

Comment Date: 5:00 p.m. Eastern Time on Monday, May 14, 2012.

Docket Numbers: RP12-707-000.

Applicants: Alliance Pipeline L.P.

Description: Alliance Pipeline L.P. submits tariff filing per 154.204: May 2012 Auction Correction to be effective 5/1/2012.

Filed Date: 05/01/2012.

Accession Number: 20120501-5140.

Comment Date: 5:00 p.m. Eastern Time on Monday, May 14, 2012.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP12-88-004.

Applicants: National Fuel Gas Supply Corporation.

Description: National Fuel Gas Supply Corporation submits tariff filing per 154.203: RP12-88 Protective Motion Rates to be effective 5/1/2012.

Filed Date: 4/30/12.

Accession Number: 20120430-5422.

Comments Due: 5 p.m. ET 5/14/12.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: May 1, 2012.
Nathaniel J. Davis, Sr.,
Deputy Secretary.

[FR Doc. 2012-10972 Filed 5-7-12; 8:45 am]

BILLING CODE 6717-01-P